DEPARTMENT OF AGRICULTURE

Forest Service

Umatilla National Forest, Pomeroy Ranger District, Pomeroy, WA; South George Vegetation and Fuels Management Project

AGENCY: Forest Service, USDA.

ACTION: Notice of intent to prepare an environmental impact statement.

SUMMARY: The USDA Forest Service will prepare an environmental impact statement (EIS) to disclose environmental effects on proposed resource management actions in South George project planning area. This project would improve the health and vigor of upland forest stands by managing vegetation composition, structure, stand density, and diversity, and decrease the susceptibility to future wildland fires of uncharacteristic intensity by reducing ladder, surface, and canopy fuels. The project planning area is approximately 21,000 acres in size. Proposed project activities consist of commercial timber harvest, including treatment of activity and natural fuels within harvest units, non commercial thinning for fuels reduction purposes, temporary road construction (that will be decommissioned after project use), danger tree removal along haul routes, and landscape prescribed burning.

DATES: Comments concerning the scope of the analysis must be received by April 8, 2009. The draft environmental impact statement is expected September 2009 and the final environmental impact statement is expected December 2009.

ADDRESSES: Send written comments to Monte Fujishin, District Ranger, Pomeroy Ranger District, 71 West Main Street, Pomeroy, WA 99347. Comments may also be sent via e-mail to comments-pacificnorthwest-umatilla-pomeroy@fs.fed.us or via facsimile to (509) 843-4621. Comments may be hand delivered to the Pomeroy Ranger District office between the hours of 7:30 a.m. and 4:30 p.m., Monday through Friday, excluding Federal holidays.

It is important that reviewers provide their comments at such times and in such a manner that they are useful to the agency's preparation of the environmental impact statement. Therefore, comments should be provided prior to the close of the comment period and should clearly articulate the reviewer's concerns and comments. The submission of timely and specific comments can affect a reviewer's ability to participate in subsequent administrative appeal or judicial review.

Comments received in response to this solicitation, including names and addresses of those who comment, will be part of the public record for this proposed action. Comments submitted anonymously will be accepted and considered; however, anonymous comments will not provide the respondent with standing to participate in subsequent administrative appeal or judicial review.

FOR FURTHER INFORMATION CONTACT: Ed Koberstein, Project Team Leader, Pomeroy Ranger District, telephone (509) 843-1891 or e-mail ekoberstein@fs.fed.us. Individuals who use telecommunication devices for the deaf (TDD) may call the Federal Information Relay Service (FIRS) at 1-800-877-8339 between 8 a.m. and 8 p.m., Eastern Time, Monday through Friday.

SUPPLEMENTARY INFORMATION: South George project planning area is primarily located in Asotin County, Washington with a small portion in Garfield County, Washington. The legal description of the area is as follows: portions of T.7N., R.44E., section 1; T.7N., R.43E., sections 1-2; T.8N., R.43E., sections 1, 2, 10-15, 21-28, 33-36; T.8N., R.44E., sections 5-8, 17-20, 26-36; and T. 9N., R.43E., section 35. It is within South Fork Asotin Creek and Upper George Creek Subwatersheds of Asotin Watershed. Asotin Creek and Wenatchee Creek inventoried roadless areas (IRAs) are adjacent on the west and south sides of the project planning area. Existing forest roads (4400, 4300, and 4304) separate the IRAs from the project planning area boundary. Anatone Wildland Urban Interface (WUI) area is near the eastern boundary of the project planning area and is identified in the Asotin County Community Wildfire Protection Plan (CWPP). Approximately 550 acres within the project planning area is owned by Washington State Department of Fish and Wildlife.

Purpose and Need for Action

The purpose and need for action in this project is to improve health, vigor, and resilience to fire, insects, and disease in upland forests that are outside their historical 3 pre-fire suppression conditions for species composition, structural diversity, stocking densities, and fuel loads. Additionally there is a need to provide sawlogs and wood fiber products for utilization by regional and local industry.

Findings from historical range of variability analysis show that dry upland forest sites once dominated by old forest stands of ponderosa pine have closed in with shade tolerant species such as Douglas-fir and grand fir. Species composition on dry-forest sites indicates that Douglas-fir and grand fir are over-represented, and ponderosa pine is under-represented. For moist forest sites, species composition analysis shows that Douglas-fir, western larch, and lodgepole pine are under-represented and below their historical range, while grand fir and spruce-fir are over-represented. Findings also show that existing insect and disease susceptibility based upon historical range of variability is well above normal levels for defoliators (western spruce budworm and Douglas-fir tussock moth), fir engraver beetles, and root diseases (Armillaria and laminated root disease). The following statements summarize the purpose of and need for action in South George project planning area:

Vegetation—There is a need to manage vegetation composition, structure, stand density, and diversity of landscape patterns toward desired future conditions across the landscape by favoring fire tolerant species, increasing old forest structure, and reducing stocking density to levels that resist insects, diseases, and stand-replacing wildfire(s).

Fuels—There is a need to improve suppression capability near private lands, and treat forest stands that deviate from natural fire regimes in terms of fire return interval and vegetative change from historical composition and density, specifically in condition class 2 (moderately altered from historical range) and condition class 3 (significantly altered from historical range). This would decrease the potential risk to wildfires of uncharacteristic intensity by reducing fuel loads to levels expected under natural fire disturbance regimes. This would be achieved by lowering stand densities, increasing the relative abundance of fire tolerant species, reducing existing ladder, surface, and canopy fuels, and reintroducing landscape prescribed fire into the ecosystem.

Timber Production—There is a need to provide sawlogs and wood fiber for utilization by regional and local economies.

Proposed Action—Following are brief descriptions of activities proposed for implementation, along with associated activities that would occur concurrently.

Timber Harvest—Commercially harvest approximately 4,200 acres. Free thinning (an unevenaged prescription utilized when remaining structure and composition is paramount and suited for restoring old-growth character of forests as well as reducing risk of wildfire) would be the primary silviculture prescription (approximately 3,300 acres). Some shelterwood and seed-tree prescriptions (approximately 900 acres) would be used in declining stands where thinning would not restore stand health or vigor. Treatments would tend to favor early seral tree species such as ponderosa pine and western larch. Harvest methods would include conventional ground based tractor logging (approximately 3,000 acres), skyline logging (approximately 900 acres) and helicopter logging (approximately 300 acres). Some treatment units may include the removal of sawlogs, small diameter trees (generally less than 7.0 inches diameter at breast height), and excess down wood for use as woody biomass products. Harvest objectives would vary by stand condition and fuel management objectives. The focus of treatment would be based on the desired quality of each treatment area after management rather than the quantity of products removed from each area.

Fuel Treatments (activity and natural)—Treat to convert stands in condition classes 2 and 3 to condition class 1 (within historical range). Treatments would be designed to reduce ladder fuels to lower the risk of fire spread into the upper canopy, and reduce ground fuel that could contribute to uncharacteristic wildfire intensity and resource damage. Treatments would also reduce fuel continuity in areas adjacent to private lands. Treatment objectives would be achieved though a combination of the following activities (more than one treatment may occur on a single acre): mechanical thinning (approximately 1,300 acres), prescribed burning of activity fuels (approximately 2,100 acres), grapple piling of activity fuels (approximately 1,000 acres) and yarding with tops attached. Non-commercial thinning by hand or mechanical methods would remove trees that are less than 10 inches diameter at breast height in stands with excess ladder fuels (approximately 200 acres).

Road Management—To accomplish implementation of proposed activities approximately 32 miles of closed system roads and 45 miles of seasonally open roads would be used as haul routes. All system roads would remain the same after project implementation, closed roads would continue to be closed and seasonally open roads would continue with that designation. Approximately 3.0 miles of temporary road would be constructed, of which 1.4 miles would be constructed over previous road templates. All temporary roads would be decommissioned after project activity use. No new road construction is proposed.

Danger Tree Removal—Danger trees would be felled and removed along all previously described haul routes used for timber sale activity. If considered economically feasible, they would be sold as part of a timber sale. Danger trees within Riparian Habitat Conservation Areas (RHCAs) would not be removed; they would be cut and left to provide additional coarse woody debris.

Landscape Prescribed Fire—Landscape prescribed fire would occur across approximately 3,000 acres within the project planning area. This treatment would reintroduce fire to a fire-dependent ecosystem to lessen the effects of a future uncharacteristic large wildfire and improve forage quality for big game. In the project planning area, fire intensities would be kept low by keeping fire out of the overstory and burning mainly surface fuels. Individual tree and group torching would likely occur in areas where there is sufficient ladder fuels and in timber stands with high occurrences of mistletoe. Upon completion the area would likely be a mosaic of unburned, lightly burned, moderately burned, and intensely burned patches.

Responsible Official

Monte Fujishin, District Ranger, Pomeroy Ranger District, Umatilla National Forest, 71 West Main Street, Pomeroy, Washington 99347.

Nature of Decision To Be Made

The decision to be made is whether to approve the proposed action or any alternative way to achieve the desired outcome. No Forest Plan amendment is proposed.

Scoping Process

This notice of intent initiates the scoping process, which guides the development of the environmental impact statement. Comments and input regarding this proposed action are being requested from the public and other interested parties in conjunction with this notice of intent. The comment period will be open for thirty days, beginning on the date of publication of this notice of intent. Response to the draft environmental impact statement will be sought from interested tribes and public beginning approximately in September 2009.

It is important that reviewers provide their comments at such times and in such a manner that they are useful to the agency's preparation of the environmental impact statement. Therefore, comments should be provided prior to the close of the comment period and should clearly articulate the reviewer's concerns and comments. The submission of timely and specific comments can affect a reviewer's ability to participate in subsequent administrative appeal or judicial review.

Dated: March 2, 2009.
Monte Fujishin,
District Ranger.

[FR Doc. E9-4764 Filed 3-6-09; 8:45 am]

BILLING CODE 3410-11-M